DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, D.C. 20230. Applications may be examined between 8:30 A.M. and 5 P.M. in Room 4211, U.S. Department of Commerce, 14th Street and Constitution Avenue, N.W., Washington, D.C.

Docket Number: 00-009. Applicant: Purdue University, Department of Biological Sciences, Lilly Hall of Life Sciences, West Lafayette, IN 47907-1392. Instrument: Electron Microscope, Model CM300. Manufacturer: Philips, The Netherlands. Intended Use: The instrument is intended to be used in cryoelectron microscopy studies to determine the structure of some biological complexes. Samples studied will include non-icosahedral viruses, human rhinovirus, poliovirus, coxsackievirus, Ross River virus, Sindbis virus, Togavirus and Flavivirus families, Moloney murine leukemia virus, human papillomavirus, RNA-protein complexes, Band-3 protein in red blood cells, caveolae in the plasma membrane, KP4 fungal toxin, protein-protein complexes, photosynthetic membranes, large proteins, Colicin and other transmembrane transport systems. In addition, the instrument will be used for educational purposes in the graduate level courses BIO595 and BMS517. Application accepted by Commissioner of Customs: April 14, 2000.

Frank W. Creel,
Director, Statutory Import Programs Staff.

[FR Doc. 00-10927 Filed 5-2-00; 8:45 am]

BILLING CODE 3510-DS-P